DEPARTMENT OF TRANSPORTATION

Federal Aviation Administration

[Summary Notice No. PE-2004-55]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on July 13, 2004.
Anthony F. Fazio,
Director, Office of Rulemaking.

Dispositions of Petitions

Docket No.: FAA-2004-18040.

Petitioner: Pacific Helicopter Tours, Inc.

Section of 14 CFR Affected: 14 CFR 135.143(c)(2).

Description of Relief Sought/Disposition: To permit Pacific Helicopter Tours, Inc., to operate certain aircraft under part 135 without a TSO-C112 (Mode S) transponder installed on those aircraft. Grant, 06/29/2004, Exemption No. 8354

Docket No.: FAA-2000-8187.

Petitioner: Department of the Air Force.

Section of 14 CFR Affected: 14 CFR 91.169(b).

Description of Relief Sought/Disposition: To permit the United States Air Force to conduct local area and other flight training missions under instrument flight rules without designating an alternate airport, subject to certain conditions and limitations. Grant, 06/28/2004, Exemption No. 7389B

Docket No.: FAA-2002-12163.

Petitioner: Mr. John A. Porter.

Section of 14 CFR Affected: 14 CFR 91.109(a) and (b)(3).

Description of Relief Sought/Disposition: To permit Mr. John A. Porter to conduct certain flight instruction and simulated instrument flights to meet recent instrument experience requirements, in certain Beechcraft airplanes equipped with a functioning throwover control wheel in place of functioning dual controls. Grant, 06/29/2004, Exemption No. 6521D

Docket No.: FAA-2004-18100.

Petitioner: Sportsman's Air Service.

Section of 14 CFR Affected: 14 CFR 135.143(c)(2).

Description of Relief Sought/Disposition: To permit Sportsman's Air Service to operate certain aircraft under part 135 without a TSO-C112 (Mode S) transponder installed on those aircraft. Grant, 06/29/2004, Exemption No. 8351

Docket No.: FAA-2004-18111.

Petitioner: Air Kauai Helicopters, Inc.

Section of 14 CFR Affected: 14 CFR 135.143(c)(2).

Description of Relief Sought/Disposition: To permit Air Kauai Helicopters, Inc., to operate certain aircraft under part 135 without a TSO-C112 (Mode S) transponder installed on those aircraft. Grant, 06/29/2004, Exemption No. 8352

Docket No.: FAA-2004-18411.

Petitioner: Island Helicopters.

Section of 14 CFR Affected: 14 CFR 135.143(c)(2).

Description of Relief Sought/Disposition: To permit Island Helicopters to operate certain aircraft under part 135 without a TSO-C112 (Mode S) installed on those aircraft. Grant, 06/29/2004, Exemption No. 8353

Docket No.: FAA-2002-12465.

Petitioner: Air Methods Corporation.

Section of 14 CFR Affected: 14 CFR 135.143(c)(2).

Description of Relief Sought/Disposition: To permit Air Methods Corporation to operate certain aircraft under part 135 without a TSO-C112 (Mode S) transponder installed on those aircraft. Grant, 06/29/2004, Exemption No. 5720E

Docket No.: FAA-2002-13076.

Petitioner: Spokane Airways, Inc.

Section of 14 CFR Affected: 14 CFR 135.143(c)(2).

Description of Relief Sought/Disposition: To permit Spokane Airways, Inc., to operate certain aircraft under part 135 without a TSO-C112 (Mode S) transponder installed on those aircraft. Grant, 06/22/2004, Exemption No. 7914A

Docket No.: FAA-2004-17930.

Petitioner: Regional Airline Association.

Section of 14 CFR Affected: 14 CFR appendix H to part 121, Level C, Training and Checking Permitted, paragraphs 2 and 3.

Description of Relief Sought/Disposition: To permit Regional Airline Association-member airlines to qualify a pilot for initial or upgrade pilot-in-command simulation training and checking when that pilot is not currently serving as second in command in an airplane of the same group. Denial, 06/22/2004, Exemption No. 8349

Docket No.: FAA-2002-12855.

Petitioner: Grant Aviation, Inc.

Section of 14 CFR Affected: 14 CFR 135.203(a)(2).

Description of Relief Sought/Disposition: To permit Grant Aviation, Inc., and Grant Aviation, Inc., pilots to conduct operations in accordance with the minimum altitude restrictions applicable to areas that are not designated as mountainous terrain, in limited areas that are designated as mountainous terrain, by § 95.17 in the Alaska Mountainous Area. Grant, 06/22/2004, Exemption No. 8348

[FR Doc. 04-16248 Filed 7-16-04; 8:45 am]

BILLING CODE 4910-13-P